DEPARTMENT OF THE INTERIOR

Bureau of Reclamation

Cancellation of Environmental Impact Statement/Environmental Impact Report on the Sacramento River Water Reliability Study, California

AGENCY: Bureau of Reclamation, Interior.

ACTION: Notice of cancellation.

SUMMARY: The Bureau of Reclamation and the Placer County Water Agency are canceling plans to continue work on a joint environmental impact statement/environmental impact report (EIS/EIR) on implementing the Sacramento River Water Reliability Study.

FOR FURTHER INFORMATION CONTACT: Ms. Sharon McHale, Bureau of Reclamation, at (916) 989-5086.

SUPPLEMENTARY INFORMATION: The Sacramento River Water Reliability Study (SRWRS) was a water supply plan consistent with the Water Forum Agreement (April 24, 2000) objectives of pursuing a Sacramento River diversion to meet water supply needs of the Placer-Sacramento region and promoting ecosystem preservation along the lower American River. The reason for canceling is that the non-federal sponsor, Placer County Water Agency, does not have the capital improvement funding to construct a project due to the decline in the regional and statewide economy.

The SRWRS cost-sharing partners had identified their long-term needs for additional water supplies to meet growing water supply demands and reliability objectives in their respective service areas. Placer County Water Agency, Sacramento Suburban Water District, and the cities of Roseville, and Sacramento were the cost-sharing partners.

Reclamation published a notice of intent to prepare the EIS/EIR on July 30, 2003 (68 FR 44811).

Dated: December 11, 2012.
Anastasia T. Leigh,
Regional Environmental Officer, Mid-Pacific Region.

[FR Doc. 2013-01662 Filed 1-25-13; 8:45 am]

BILLING CODE P